DEPARTMENT OF COMMERCE

National Oceanic and Atmospheric Administration

RIN 0648-XE067

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council and its Committees.

DATES: The meetings will be held Monday, August 10, 2015 through Thursday, August 13, 2015. For agenda details, see SUPPLEMENTARY INFORMATION.

ADDRESSES: The meeting will be held at: Holiday Inn Midtown, 440 West 57th St., New York, NY 10019; telephone: (212) 581-8100

Council address: Mid-Atlantic Fishery Management Council, 800 N. State St., Suite 201, Dover, DE 19901; telephone: (302) 674-2331.

FOR FURTHER INFORMATION CONTACT: Christopher M. Moore, Ph.D. Executive Director, Mid-Atlantic Fishery Management Council; telephone: (302) 526-5255. The Council's Web site, www.mafmc.org also has details on the meeting location, proposed agenda, webinar listen-in access, and briefing materials.

SUPPLEMENTARY INFORMATION: The following items are on the agenda, though agenda items may be addressed out of order (changes will be noted on the Council's Web site when possible.)

Monday, August 10, 2015

10 a.m.-4 p.m.

Ecosystem and Ocean Planning Committee

—Review input from Advisory Panel on draft habitat policy documents

—Provide comment/revisions to draft documents

l—Other general Committee updates

Tuesday, August 11, 2015

9 a.m.-10 a.m.

Executive Committee

l—Discuss possible framework related to Council risk policy and harvest control rules.

10 a.m.

Council Convenes

10 a.m.-10:30 a.m.

Swearing in of New Council Members and Election of Officers

10:30 a.m.-11:45 a.m.

Industry Observer Amendment

l—Review Amendment development and analyses

l—Approve alternative range for completion of draft Environmental Assessment

11:45 a.m.-12 p.m.

Special Award

1 p.m.-2 p.m.

Blueline Tilefish Action

l—Review scoping comments and approve plan of action

2 p.m.-2:30 p.m.

Electronic For-Hire Vessel Trip Report Contract—Andy Loftus

l—Review findings and consider next steps

2:30 p.m.

Council Meeting With the Atlantic States Marine Fisheries Commission's Bluefish Board

2:30 p.m.-5 p.m.

Bluefish Specifications

l—Review SSC, Bluefish Monitoring Committee, and Advisory Panel recommendations regarding 2016, 2017, and 2018 harvest levels and associated management measures

l—Adopt recommendations for 2016, 2017, and 2018 harvest levels and associated management measures

Wednesday, August 12th

9 a.m.

Council Meeting With the Atlantic States Marine Fisheries Commission's Summer Flounder, Scup and Black Sea Bass Board

9 a.m.-11:30 a.m.

Summer Flounder Specifications

—Review SSC, Summer Flounder Monitoring Committee, and Advisory Panel recommendations for 2016, 2017, and 2018

—Adopt recommendations for 2016, 2017, and 2018 commercial and recreational harvest levels and commercial management measures

—Update on ASMFC activities regarding summer flounder

11:30 a.m.-12 p.m.

Summer Flounder Amendment

—Update on amendment progress and action plan

—Discussion of FMP Goals and Objectives (with Fisheries Forum staff)

1 p.m.-3 p.m.

Black Sea Bass Specifications

—Review SSC, Black Sea Bass Monitoring Committee, and Advisory Panel recommendations for 2016 and 2017

—Adopt recommendations for 2016 and 2017 commercial and recreational harvest levels and commercial management measures

3 p.m.-4:30 p.m.

Scup Specifications

—Review SSC, Scup Monitoring Committee, and Advisory Panel recommendations for 2016, 2017 and 2018

—Adopt recommendations for 2016, 2017, and 2018 commercial and recreational harvest levels and commercial management measures

4:30 p.m.-5 p.m.

Scup Amendment

—Discuss development and scoping

Thursday, August 13th

9 a.m.

Council Convenes

9 a.m.-1 p.m.

Business Session

Organization Reports

—NMFS Greater Atlantic Regional Office

—NMFS Northeast Fisheries Science Center

—NOAA Office of General Counsel

—NOAA Office of Law Enforcement

—U.S. Coast Guard

—Atlantic States Marine Fisheries Commission

Liaison Reports

—New England Council

—South Atlantic Council

Executive Director Report, Chris Moore

Science Report, Rich Seagraves

Committee Reports

—Ecosystem and Ocean Planning

—SSC

Continuing and New Business

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under section 305(c) of the Magnuson-Stevens Act, provided the public has been notified of the Council's intent to take final action to address the emergency.

Special Accommodations

These meetings are physically accessible to people with disabilities. Requests for sign language interpretation or other auxiliary aid should be directed to M. Jan Saunders, (302) 526-5251, at least 5 days prior to the meeting date.

Dated: July 21, 2015.
Tracey L. Thompson,
Acting Deputy Director, Office of Sustainable Fisheries, National Marine Fisheries Service.

[FR Doc. 2015-18248 Filed 7-24-15; 8:45 am]

BILLING CODE 3510-22-P